DEPARTMENT OF HEALTH AND HUMAN SERVICES

Health Resources and Services Administration

Agency Information Collection Activities: Proposed Collection: Comment Request

In compliance with the requirement for opportunity for public comment on proposed data collection projects (section 3506(c)(2)(A) of title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: HRSA Competing Training Grant Application, Instructions and Relating Regulations (OMB No. 0915-0060)—Revision

The Health Resources Services Administration uses the information in the application to determine the eligibility of applicants for awards, to calculate the amount of each award and to judge the relative merit of applications. The application contains a basic set of general instructions as well as program-specific instructions which includes the detailed description of the project. The budget is negotiated for all years of the project period based on this application.

The burden estimate is as follows:

Form | Number of respondents | Response per respondent | Total responses | Hours per response | Total burden hours
Progress Report | 1,250 | 1 | 1,250 | 56.25 | 70,313

Send comments to Susan G. Queen, Ph.D., HRSA Reports Clearance Officer, Room 14-45, Parklawn Building, 5600 Fishers Lane, Rockville, MD 20857. Written comments should be received within 60 days of this notice.

Dated: February 4, 2003.
Jane M. Harrison,
Director, Division of Policy Review and Coordination.

[FR Doc. 03-3298 Filed 2-10-03; 8:45 am]

BILLING CODE 4165-15-P